COMMODITY FUTURES TRADING COMMISSION

Sunshine Act Meeting

AGENCY HOLDING THE MEETING: Commodity Futures Trading Commission (“Commission”).

DATE AND TIME: Wednesday, February 15, 2006, commencing at 10 a.m.

PLACE: 1155 21st Street, NW., Washington, DC, Lobby Level Hearing Room (Room 1000).

STATUS: Open.

MATTERS TO BE CONSIDERED: Public Hearing on Self-Regulation and Self-Regulatory Organizations (“SROs”).

CONTACT PERSONS AND ADDRESSES: Requests to appear and supporting materials should be mailed to the Commodity Futures Trading Commission, Three Lafayette Center, 1155 21st Street, NW., Washington, DC 20581, attention Office of the Secretariat; transmitted by facsimile at 202-418-5521; or transmitted electronically to secretary@cftc.gov. Reference should be made to “SRO Hearing.” For substantive questions on requests to appear and supporting materials, please contact Stephen Braverman, Deputy Director, (202) 418-5487; Rachel Berdansky, Special Counsel, (202) 418-5429; or Sebastian Pujol Schott, Attorney-Advisor, (202) 418-5641, Division of Market Oversight.

SUPPLEMENTARY INFORMATION: In a separate Federal Register release published today, the Commission extended the comment period for “Self-Regulation and Self-Regulatory Organizations in the Futures Industry” ¹ (“Requests for Comments”) by 14 days. The comment period now closes on January 23, 2006. The Request for Comments seeks public input on a range of SRO issues, including governance, board and disciplinary committee composition, conflicts of interest within self-regulation, and the ability of independent, board-level regulatory oversight committees to insulate self-regulatory functions form improper influence. The Request for Comments also notes that it will form the basis of an upcoming public Commission meeting on self-regulation and self-regulatory organizations (“SRO Hearing”). The Commission's 2004 Request for Comments on SRO Governance and industry developments since the initiation of the SRO Study will be considered.²

¹ 70 FR 71090 (November 25, 2005).

² 69 FR 32326 (June 9, 2004).

The Commission hereby announces that the SRO Hearing will commence on Wednesday, February 15, 2006, at 10 a.m., at the Commission's headquarters in Washington, DC. An agenda will be provided as the hearing date approaches. All individuals or organizations wishing to appear before the Commission must submit to the Secretariat, at the above address, a request to appear. Such request must be received by January 13, 2006, and must include the name of the individual appearing; the entity that he or she represents, if any; a concise statement of interest and qualifications; and a brief summary or abstract of his or her statement. The Commission will invite a representative number of individuals or organizations to appear at the hearing from those submitting requests to appear. A transcription of the hearing will be made and entered into the Commission's public comment files, which will remain open for the receipt of written comments until March 2, 2006.

The Commission believes that providing interested members of the public with an opportunity to appear before it, responds to questions, and address differing viewpoints will enhance its decision-making as the SRO Study nears conclusion.

Issued in Washington, DC on December 15, 2005, by the Commission.
Jean A. Webb,
Secretary of the Commission.

[FR Doc. 05-24293 Filed 12-16-05; 11:25 am]

BILLING CODE 6351-01-M